DEPARTMENT OF TRANSPORTATION

Federal Aviation Administration

Office of Commercial Space Transportation: Notice of Availability and Request for Comment on the Spaceport Camden Draft Environmental Impact Statement (EIS), Camden County, GA

AGENCY: The Federal Aviation Administration (FAA), Department of Transportation (DOT) is the lead agency. The National Aeronautics and Space Administration and National Park Service are cooperating agencies.

ACTION: Notice of availability and request for comment; Notice of public hearings.

SUMMARY: The FAA is announcing the availability of and requesting comments on the Spaceport Camden Draft EIS, which is available for public review. The Draft EIS evaluates the potential environmental impacts that may result from the FAA's Proposed Action of issuing a Launch Site Operator License to the Camden County Board of Commissioners (County) to operate a proposed commercial space launch site, called Spaceport Camden. The license would allow the County to offer Spaceport Camden to commercial launch operators to conduct vertical launches.

DATES: Comments must be received on or before May 16, 2018.

The FAA will hold two public hearings to solicit comments from the public concerning the content of the Draft EIS. The dates of the hearings are Wednesday, April 11, and Thursday, April 12, 2018, from 5:30 p.m. to 8:30 p.m.

ADDRESSES: The FAA will hold the two public hearings at the following location: Camden County Public Service Authority Recreation Center Community Room, 1050 Wildcat Drive, Kingsland, GA 31548 (912-729-5600).

A paper copy of the Draft EIS is available for review during regular business hours at the following libraries:

• Camden County Public Library, 1410 Georgia Highway 40, Kingsland, GA 31548

• St. Marys Public Library, 100 Herb Bauer Drive, St. Marys, GA 31558

• Brunswick-Glynn County Library, 208 Gloucester Street, Brunswick, GA 31520

• St. Simons Island Public Library, 530A Beachview Drive, St. Simons Island, GA, 31522

Comments regarding the Draft EIS should be mailed to Ms. Stacey M. Zee, Environmental Specialist, Federal Aviation Administration, c/o Leidos, 2109 Air Park Road SE, Suite 200, Albuquerque, NM 87106. Comments may also be submitted by email to FAACamdenSpaceportEIS@Leidos.com.

FOR FURTHER INFORMATION CONTACT: Ms. Stacey M. Zee, Environmental Specialist, Federal Aviation Administration, 800 Independence Ave. SW, Suite 325, Washington, DC 20591; telephone (202) 267-9305; email FAACamdenSpaceportEIS@Leidos.com.

SUPPLEMENTARY INFORMATION: The FAA is announcing the availability of and requesting comments on the Spaceport Camden Draft EIS, in accordance with the National Environmental Policy Act of 1969 as amended (42 United States Code [U.S.C.] §§ 4321 et seq.), Council on Environmental Quality Regulations (40 Code of Federal Regulations Parts 1500-1508), and FAA Order 1050.1F, Environmental Impacts: Policies and Procedures. This Draft EIS is also submitted for review pursuant to the following public law requirements: Section 4(f) of the DOT Act (49 U.S.C. 303); Section 106 of the National Historic Preservation Act (54 U.S.C. 300101 et seq.); Executive Order (E.O.) 11988, Floodplain Management; DOT Order 5650.2, Floodplain Management and Protection; E.O. 11990, Protection of Wetlands; and DOT Order 5660.1A, Preservation of the Nation's Wetlands. Pursuant to the Coastal Zone Management Act of 1972, as amended, this project is being evaluated for consistency with the Georgia Coastal Management Program. Section 306(d)(14) of the Act requires public participation in the Federal consistency review process. The FAA encourages the public to submit comments on the compatibility of the Proposed Action and alternatives with these special purpose laws.

An electronic version of the Draft EIS is available on the FAA Office of Commercial Space Transportation website at: https://www.faa.gov/about/office_org/headquarters_offices/ast/environmental/nepa_docs/review/documents_progress/camden_spaceport/.

The FAA encourages all interested agencies, organizations, Native American tribes, and members of the public to submit comments concerning the analysis presented in the Draft EIS by May 16, 2018. Comments should be as specific as possible and address the analysis of potential environmental impacts and the adequacy of the proposed action or merits of alternatives and any mitigations being considered. Reviewers should organize their participation so that it is meaningful and makes the agency aware of the viewer's interests and concerns using quotations and other specific references to the text of the Draft EIS and related documents. Matters that could have been raised with specificity during the comment period on the Draft EIS may not be considered if they are raised for the first time later in the decision process. This commenting procedure is intended to ensure that substantive comments and concerns are made available to the FAA in a timely manner so that the FAA has an opportunity to address them.

Before including your address, phone number, email address, or other personal identifying information in your comment, be advised that your entire comment—including your personal identifying information—may be made publicly available at any time. While you can ask us in your comment to withhold from public review your personal identifying information, we cannot guarantee that we will be able to do so.

Due to the large turnout during the public scoping meetings, the FAA will hold two public hearings to solicit comments from the public concerning the content of the Draft EIS on Wednesday, April 11 and Thursday, April 12, 2018, from 5:30 p.m. to 8:30 p.m. at the following location: Camden County Public Service Authority Recreation Center Community Room, 1050 Wildcat Drive, Kingsland, GA 31548 (912-729-5600).

At the public hearings, the FAA will present information about the Draft EIS and the environmental review process. Please note the FAA will present identical information at each public hearing. If you are planning to provide oral comments during the hearing, we ask that you speak at only one of the hearings, so that everyone wanting to present comments has the opportunity to do so, as time is limited. The purpose of the public hearings is to afford the public and other interested parties the opportunity to comment on the analysis of the Proposed Action and alternatives presented in the Draft EIS. Members of the public and other interested parties will be provided the opportunity to submit both written and oral comments. The hearings will include a poster information session and an FAA presentation, followed by a public statement period in which members of the public can present up to a three-minute statement. The FAA will transcribe oral comments. All comments received during the comment period will be given equal weight and taken into consideration during preparation of the Final EIS.

Under the Proposed Action, the FAA would issue a Launch Site Operator License to the County. The license would allow the County to offer Spaceport Camden to commercial launch operators to conduct launches of liquid-fueled, small to medium-large lift-class, orbital and suborbital vertical launch vehicles. The license would allow up to 12 vertical launches and up to 12 associated launch vehicle first-stage landings per year. In support of the launches, there would be up to 12 wet dress rehearsals and up to 12 static fire engine tests per year. All vehicles would launch to the east, from between 83 degrees (slightly north of due east) and 115 degrees (approximately east southeast), over the Intracoastal Waterway, Cumberland Island National Seashore and/or Little Cumberland Island, and the Atlantic Ocean. The Proposed Action includes possible recovery of the first stage by either landing the stage at Spaceport Camden or landing the stage on a barge approximately 200 to 300 miles off shore in the Atlantic Ocean and returning it to Spaceport Camden.

Alternatives under consideration in the Draft EIS include the Proposed Action, an Ocean-Landing Only Alternative (similar to the Proposed Action except first-stage landings would only occur on a barge approximately 200 to 300 miles off shore in the Atlantic Ocean), and the No Action Alternative.

The Draft EIS evaluates the potential direct, indirect, and cumulative environmental impacts that may result from the Proposed Action, Ocean-Landing Only Alternative, and the No Action Alternative. The FAA assessed impact categories to provide a context for understanding and assessing the potential environmental impacts of the construction and operation, as well as secondary (induced) impacts associated with the Proposed Action and alternatives. The Draft EIS focuses on the following impact categories: Air quality; biological resources (including fish, wildlife, and plants); climate; coastal resources; Department of Transportation Act, Section 4(f) (including park and recreational lands, wildlife and waterfowl refuges, and historic sites in transportation project development); farmlands; hazardous materials, solid waste, and pollution prevention; historical, architectural, archeological, and cultural resources; land use; natural resources and energy supply; noise and compatible land use; socioeconomics, environmental justice, and children's environmental health and safety risks; visual effects (including light emissions), and water resources (including wetlands, floodplains, surface waters, groundwater, and wild and scenic rivers). The following topics were also analyzed and are appended to the Draft EIS: Health and safety, soils and geology, transportation, and airspace.

Issued in Washington, DC, on March 9, 2018.
Daniel Murray,
Manager, Space Transportation Development Division.

[FR Doc. 2018-05322 Filed 3-15-18; 8:45 am]

BILLING CODE 4910-13-P